DEPARTMENT OF THE TREASURY

Proposed Collection; Comment Request; TIGTA Generic Survey Request

AGENCY: Departmental Offices, Department of Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). The Department of the Treasury is soliciting comments on this collection of information that is scheduled to expire April 30, 2012.

DATES: Written comments must be received on or before February 17, 2012 to be assured of consideration.

ADDRESSES: You may submit comments by any of the following methods:

www.PRAComment.gov. To provide your comments, selected the “comment page” link and follow the instructions for submitting comments.

Email: Kim.Hyatt@tigta.treas.gov; subject line: Comment on TIGTA Generic Survey Request.

Mail: Kimberly A. Hyatt, Treasury Inspector General for Tax Administration, City Center Bldg., 1401 H St. NW., Suite 469, Washington, DC 20005.

All responses to this notice will be included in the request for OMB's approval. All comments will also become a matter of public record.

FOR FURTHER INFORMATION CONTACT: Requests for additional information or request a copy of the information collection should be directed to Kim Hyatt (202) 622-5913.

SUPPLEMENTARY INFORMATION: OMB Number: 1505-0217.

Type of Review: Extension without change of a currently approved collection.

Title: Treasury Inspector General for Tax Administration (TIGTA) Generic Survey Request.

Abstract: The TIGTA's Office of Audit's mission is to provide independent oversight of IRS activities. Through its audit programs TIGTA promotes efficiency and effectiveness in the administration of internal revenue laws, including the prevention and detection of fraud, waste, and abuse affecting tax administration. To accomplish this, TIGTA Office of Audit at times finds it necessary to contact a limited number of taxpayers (including businesses) for various reasons.

Affected Public: Individuals and Households.

Estimated Number of Respondents: 2,500.

Estimated Total Annual Burden Hours: 2,500.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology; and (e) estimates of capital or start-up costs and costs of operation, maintenance, and purchase of services to provide information.

Dated: December 13, 2011.
Dawn D. Wolfgang,
Treasury PRA Clearance Officer.

[FR Doc. 2011-32353 Filed 12-16-11; 8:45 am]

BILLING CODE 4810-25-P